DEPARTMENT OF HEALTH AND HUMAN SERVICES

Substance Abuse and Mental Health Services Administration

Tribal Opioid Response (TOR) Consultation

AGENCY: Substance Abuse and Mental Health Services Administration (SAMHSA), HHS.

ACTION: Notice of meeting and request for testimony.

SUMMARY: SAMHSA announces a Tribal Consultation Session on the Tribal Opioid Response (TOR) grant funding methodology. SAMHSA will host American Indian and Alaska Native (AI/AN) Federally Recognized Tribes for a virtual Tribal consultation session.

DATES: The Tribal consultation will be held on November 9th, at 2 p.m. ET.

SAMHSA will accept written Tribal testimony until 5 p.m., November 23rd, 2023.

ADDRESSES: Written tribal testimony should be submitted by email to otap@samhsa.hhs.gov. All submissions must include Tribal affiliation. All relevant comments, including any personal information provided, will be posted without change.

FOR FURTHER INFORMATION CONTACT: Karen Hearod, MSW, LCSW, Director, Office of Tribal Affairs and Policy, Substance Abuse and Mental Health Services Administration, Telephone: 202-868-9931, Email: otap@samhsa.hhs.gov.

SUPPLEMENTARY INFORMATION: Federally Recognized Indian Tribes represented by the Tribal President, Tribal Chair, or Tribal Governor, or an elected or appointed Tribal Leader, or their authorized representative(s) may participate in this consultation by submitting written views, opinions, recommendations, and data. Testimony received, including attachments and other supporting materials, are part of the public record and subject to public disclosure. Do not include any information in your testimony or supporting materials considered confidential or inappropriate for public disclosure. If you include your name, contact information, or other personal identifiers in the body of your testimony, that information will be on public display. SAMHSA will review all submissions and may choose to redact, or withhold, submissions containing private or proprietary information such as Social Security numbers, medical information, inappropriate language, or duplicate/near duplicate examples of a mass-mail campaign. SAMHSA will carefully consider all testimony submitted into the docket.

Oral Tribal Testimony: Based on the number of participants giving testimony and the time available, it may be necessary to limit speaking times for each presenter. We will adjourn the Tribal consultation meeting early if all attendees who requested to provide oral testimony in advance of and during the consultation have delivered their testimony.

Written Tribal Testimony: Written testimony will be accepted per the instructions provided in the ADDRESSES section above. Written testimony received in advance of the meeting will be included in the official record of the meeting. The consultation meeting will be recorded, transcribed, and posted without change to https://www.samhsa.gov/tribal-affairs/news-events, including any personal information provided.

This meeting is being held in accordance with Presidential Executive Order No. 13175, November 6, 2000, and Presidential Memorandums of November 5, 2009, and September 23, 2004, and January 26, 2021 on Consultation and Coordination with Indian Tribal Government and SAMHSA's Tribal Consultation Policy, which can be found at: https://www.samhsa.gov/sites/default/files/topics/tribal_affairs/tribal-consultation-policy-2017.pdf.

Purpose: The purpose of this Consultation meeting is to advance SAMHSA support for, and collaboration with, federally recognized American Indian and Alaska Native (AI/AN) Tribes. To advance these goals, SAMHSA conducts government-to-government consultations with Indian Tribes represented by the Tribal President, Tribal Chair, or Tribal Governor, or an elected or appointed Tribal Leader, or their authorized representative(s) to the extent practicable and permitted by law before SAMHSA takes any action that will significantly affect Indian Tribes. Consultation is an enhanced form of communication that emphasizes trust, respect, and shared responsibility. It is an open and free exchange of information and opinion among parties that leads to mutual understanding.

Matters To Be Considered:

The Tribal Opioid Response Program was first authorized in 2018 along with the State Opioid Response Program (SOR) under Title II Division H of the Consolidated Appropriations Act, 2018. This announcement addressed Healthy People 2020, Substance Abuse Topic Area HP 2020-SA. All grants and sub-awards made under this announcement were governed by 45 CFR part 75.

The purpose of the TOR program is to assist in addressing the overdose crisis in Tribal communities by increasing access to treatment of opioid use disorder (MOUD), and supporting the continuum of prevention, harm reduction, treatment, and recovery support services for opioid use disorder (OUD) and co-occurring substance use disorders.

The TOR program also supports the full continuum of prevention, harm reduction, treatment and recovery support services for stimulant misuse and use disorders, including for cocaine and methamphetamine. The TOR program emphasizes the use of medication-assisted treatment using one of the three FDA-approved medications for OUDs.

The TOR program encourages the use of traditional practices. Funding is for a two-year time frame. Since inception the TOR program has been funded using the user population estimates distributed by the Indian Health Services (IHS). SAMHSA is interested in receiving feedback and suggestions for alternate funding methodologies for the TOR program, including the questions below.

Should SAMHSA continue to use the IHS user population estimates as the basis for determining TOR grant award amounts? If so, what tiers of funding should be established?

Should SAMHSA award each TOR grant recipient the same amount, similar to other SAMHSA discretionary Tribal grant programs?

Should SAMHSA award funds based on proposed number of clients served using grant funding?

Should SAMHSA award funds based on proposed activities that will be funded through the grant?

Should SAMHSA use some combination of the above methodologies?

What other methodologies should be considered instead?

Meeting Information: Zoom Virtual Tribal Consultation. If you wish to attend the virtual consultation session, please register here: https://www.zoomgov.com/meeting/register/vJItdu6qpzsoH6xCvLzSWzOWOK3ENOV2iWQ.

Instructions to access the Zoom virtual consultation will be provided in the link following registration. All elected Tribal officials are encouraged to submit written Tribal testimony by email.

Dated: September 28, 2023.
Carlos Castillo,
Committee Management Officer.

[FR Doc. 2023-21967 Filed 10-3-23; 8:45 am]

BILLING CODE 4162-20-P